DEPARTMENT OF HEALTH AND HUMAN SERVICES

Health Resources and Services Administration

Special Projects of National Significance; Targeted HIV Outreach and Intervention Model Development; Evaluation and Program Support Center

AGENCY: Health Resources and Services Administration, HHS.

ACTION: Correction.

In the Federal Register of April 13, 2001, appearing on page 19180, second column, line 21 is an incorrect website to locate the guidance. The correct HRSA web site for the guidance should read, www.hab.hrsa.gov/grants.html.

Dated: May 9, 2001.
Jane M. Harrison,
Director, Division of Policy Review and Coordination.

[FR Doc. 01-12180 Filed 5-14-01; 8:45 am]

BILLING CODE 4160-15-P